DEPARTMENT OF DEFENSE

Department of the Army

Notice of Availability of the Record of Decision (ROD) for the Final Environmental Impact Statement (FEIS) for Enhanced Training and Operations at the National Guard Training Center—Fort Indiantown Gap, PA

AGENCY: National Guard Bureau; Department of the Army, DoD.

ACTION: Notice of availability.

SUMMARY: The National Guard Bureau announces the availability of the ROD, which explains the decision to proceed with 11 construction and enhancement actions at the National Guard Training Center at Fort Indiantown Gap. Three of the 11 actions are large-scale projects: Construction of a Multi-Purpose Training Range; Expansion of a Tactical Vehicle Training Complex and Improvement to the Muir Army Airfield Complex, including a lengthened runway. The remaining eight actions are smaller actions that will result in few adverse impacts to resources. The Enhanced Training and Operations at the National Guard Training Center at Fort Indiantown Gap FEIS complies with all applicable requirements and adequately addresses the biological, physical, socio-economic, and cultural impacts from implementing the proposed action.

ADDRESSES: A copy of the ROD may be obtained by writing to Captain Geoffrey Lincoln, NGTC-FTIG EIS Project Officer, NGTC-FTIG, Environmental Section, 1119 Utility Road, Annville, Pennsylvania 17003-5002 or Lieutenant Colonel Christopher Cleaver, NGTC-FTIG Public Affairs Officer (PAO), PADMVA Headquarters, Building 0-47, Annville, Pennsylvania 17003-5002.

FOR FURTHER INFORMATION CONTACT: Captain Lincoln at (717) 861-5248 or Lieutenant Colonel Cleaver at (717) 861-8468.

SUPPLEMENTARY INFORMATION: The FEIS evaluated in-depth the potential impacts of three alternatives: (1) Preferred Project Alternative: implement all 11 proposed actions, including 42 component projects; (2) Competing Build Alternative: implement modified versions of the three large-scale actions and elements of the other eight actions; and (3) No Action Alternative: do not implement any of the 11 proposed actions. The FEIS concluded that the Preferred Project Alternative would result in the least impacts to the environment while meeting the stated purpose of and need for the proposed actions. The construction and enhancement actions are necessary to upgrade the site's capabilities over the next several years to meet current and future missions and needs of the Pennsylvania National Guard and other military users. The FEIS identifies mitigation measures to minimize impacts from the actions. Unmitigable impacts are expected to occur to local topography, forest resources and to four-acre Shuey Lake, located on the installation. Impacts to special status species, including the Regal Fritillary Butterfly and other resource areas, could be mitigated to less-than-significant levels.

Dated: September 10, 2002.
Raymond J. Fatz,
Deputy Assistant Secretary of the Army (Environment, Safety and Occupational Health), OASA (I&E).

[FR Doc. 02-23797 Filed 9-18-02; 8:45 am]

BILLING CODE 3710-08-M